ENVIRONMENTAL PROTECTION AGENCY

[FRL-6976-3]

Proposed Agreement Pursuant to Sections 122(g) and (h) of the Comprehensive Environmental Response, Compensation, and Liability Act for the Marina Cliffs/Northwestern Barrel Superfund Site

AGENCY: Environmental Protection Agency (“EPA”).

ACTION: Notice; request for public comment on proposed de minimis settlement.

SUMMARY: In accordance with section 122(i)(1) of the Comprehensive Environmental Response, Compensation and liability Act of 1984, as amended (“CERCLA”), notification is hereby given of a proposed administrative agreement concerning the Marina Cliffs/Northwestern Barrel hazardous waste site located between 5th Avenue and Lake Michigan in South Milwaukee, Wisconsin (the “Site”). EPA proposes to enter into this agreement under the authority of sections 122(g) and (h) and 107 of CERCLA. The proposed agreement has been executed by the following de minimis parties: AF Gallun & Sons, LLC; Albert Trostel & Sons Company; Aldrich Chemical Co. Inc.; Allen-Bradley Co. LLC; Ampco Metals, Inc.; A.O. Smith Corporation; Appleton Papers Inc., a.k.a. Appleton Papers, Inc., NCR Corporation, Appleton Papers, Inc. division of National Cash Register Company, Appleton Coated Paper Co.; Appleton Coated Paper Company; Appleton Papers Division of NCR Corporation, The National Cash Register Company, NCR Delaware, Inc., Combined Paper Company, Combined Locks Paper Company, Combined Paper Mills, Inc.; AR Accessories Liquidating Trust as successor to Amity Leather, Ato Findley, Inc.; Atofina Chemicals Inc. (Elf Atochem North America, Inc.) on behalf of Beazer East, Inc., on behalf of its former subsidiary Thiem Corporation; Blackhawk Leather, Ltd. and its successor, Blackhawk Leather LLC; Briggs & Stratton Corporation; Bucyrus International, Inc. (f/k/a Bucyrus-Erie Company); Carbolineum Wood Preserving Co.; Case Corporation; Caterpillar Inc.; City of Green Bay, Wisconsin; City of Manitowoc, Wisconsin; City of Milwaukee, Wisconsin; City of Sheboygan, Wisconsin; City of West Allis, Wisconsin; City of West Bend, Wisconsin; CMC Heartland Partners; Colonial Heights Packaging Inc. f/k/a Milprint, Inc.; Cooper Industries, Inc.; Crucible Materials Corporation by and through its Trent Tube Division; Cudahy Tanning Co.; Deere & Company; Dresser Industries, Inc. (Waukesha Engine); E.I. du Pont de Nemours and Company; Eaton Corporation f/k/a Cutler-Hammer, Inc.); Eggers Industries; Essential Industries Inc.; FMC Corporation on behalf of Bolens Corporation and Bolens Products Divisions; Hamilton Sundstrand Corporation and The Falk Corporation; Fort James Corporation, successor to Fort Howard Corporation; Georgia Gulf Corporation, on behalf of itself, Cook Composites & Polymers, and the former Freemen Chemical Co.; Golden Books Publishing Company, Inc. (formerly known as Western Publishing Company, Inc.); Grede Foundries, Inc.; Harley-Daivdson Motor Company; Harnischfeger Corporation; The Heil Co.; Hein-Werner; Henkel Corporation, as successor to Kepec Chemical; Hentzen/Wisconsin Paint; Hercules Incorporated; Heresite Protective Coatings, Inc.; Honeywell International Inc.; Hydrite Chemical Co.; Hydrite Chemical Co. for Benlo Chemical/Hydrite share; Ingersoll-Rand Co. for Clark Equipment Co.; International Paper Co. (and Champion International, a wholly owned subsidiary of International Paper); Invincible Metal Furniture Co.; Johnson Controls Battery Group, Inc. as successor to and on behalf of Johnson Controls, Inc.; Kearney & Trecker; Kickhaefer Manufacturing Company; Kimberly-Clark Corporation and Scott Paper Company; Ladish Co., Inc.; Law Tanning Co. LLC; Litton Industries, Inc., on behalf of itself and the Louis Allis company and MagneTek, Inc.; Maysteel Corporation (and its successor, Maysteel LLC); Midwest Tanning Co.; Miller Brewing Company; Milport Chemical Company; Milwaukee County; MRC Holding, Inc. (Northern Paper, Marathon Corp.); Navistar International Transportation Corporation; Nekoosa Papers Inc. and Georgia-Pacific Corporation; The Nelson Paint Co. of MI, Inc.; Niles Chemical Paint Company, Inc.; Nordberg Inc.; Pabst Brewing Co.; Pharmacia & Upjohn Company (formerly The Upjohn Company); The Procter & Gamble Paper Products Company; Rapco Leather, Inc.; Reichhold Chemicals, Inc./J.G. Milligan & Company; Research Products Corporation; RHS Holdings, Inc. as successor to Rexnord, Inc./Chainbelt; RHL Inc. fka Lindsay Finishes, Inc. (Lindsay Paint); Roper Corp.; SBC Holdings, Inc. (f/k/a the Stroh Brewery Company); Seidel Tanning Corp.; The Sherwin-Williams Company; Square D Company; Soo Line Railroad Company; Stolper Industries (Stolper Steel); Stora Enso North America Corp., successor by merger to Consolidated Papers, Inc.; Textron Inc.; Thiele Tanning Company; Union Pacific Railroad Company as successor to Chicago & North Western; Viad Corp (for Armour and Co.); The Vollrath Co., L.L.C.; Wenthe-Davidson Engineering Co.; West Bend Company; W.H. Brady Corporation; Wisconsin Electric Power Company; and the U.S. Department of the Army.

Under the proposed agreement, certain of the de minimis Settling Parties will pay a total of approximately $468,227.30 which will be placed into an escrow account to be used for response costs incurred and to be incurred at the Site. Other de minimis Settling Parties have already paid approximately $5.2 million toward cleanup costs at the Site and will be provided with de minimis protections without making further payments. A group of six non-de minimis settlors under this agreement will perform the remaining removal actions to be conducted at the Site, and pay EPA's costs of overseeing these removal actions. EPA incurred response costs overseeing response activities conducted to mitigate an imminent and substantial endangerment to human health or the environment present or threatened by hazardous substances present at the Site. The Settling Parties have spent more than $9.7 million to perform cleanup activities at the Site to date. The non-de minimis settlors under this proposed agreement are: BASF Corporation, on behalf of itself and its predecessors in interest, International Printing Ink, Inmont Corp., and Cook Paint & Varnish; DaimlerChrysler Corp.; General Motors Corporation; S.C. Johnson & Son, Inc.; Minnesota Mining and Manufacturing Company; and PPG Industries, Inc.

For thirty days following the date of publication of this notice, the EPA will receive written comments relating to this proposed agreement. EPA will consider all comments received and may decide not to enter this proposed agreement if comments disclose facts or considerations which indicate that the proposed agreement is inappropriate, improper or inadequate.

DATES: Comments on the proposed agreement must be received by EPA on or before June 11, 2001.

ADDRESSES: Comments should be addressed to the Docket Clerk, U.S. Environmental Protection Agency, Region 5, 77 West Jackson Boulevard, Chicago, Illinois, 60604-3590, and should refer to: In the Matter of Marina Cliffs/Northwestsern Barrel, South Milwaukee, Wisconsin, U.S. EPA Docket No. V-W-01C-630.

FOR FURTHER INFORMATION CONTACT: Thomas J. Krueger, U.S. Environmental Protection Agency, Office of Regional Counsel, C-14J, 77 West Jackson Boulevard, Chicago, Illinois, 60604-3590, (312) 886-0562.

A copy of the proposed administrative settlement agreement may be obtained in person or by mail from the EPA's Region 5 Office of Regional Counsel, 77 West Jackson Boulevard, Chicago, Illinois, 60604-3590. Additional background information relating to the settlement is available for review at the EPA's Region 5 Office of Regional Counsel.

Authority: The Comprehensive Environmental Response, Compensation, and Liability Act, as amended, 42 U.S.C. 9601-9675.

William E. Muno,
Director, Superfund Division, Region 5.

[FR Doc. 01-11831 Filed 5-9-01; 8:45 am]

BILLING CODE 6560-50-M